DEPARTMENT OF COMMERCE

International Trade Administration

[A-570-851]

Notice of Decision of the Court of International Trade: Certain Preserved Mushrooms from the People's Republic of China

AGENCY: Import Administration, International Trade Administration, Department of Commerce.

ACTION: Notice of Decision of the Court of International Trade.

SUMMARY: On October 17, 2003, in Tak Fat Trading Company, et al., v. United States, Consol. Court No. 00-07-00360, Slip Op. 03-134, a lawsuit challenging the Department of Commerce's final scope ruling that the marinated mushrooms manufactured or exported by the plaintiffs are within the scope of the antidumping duty order of certain preserved mushrooms from the People's Republic of China, the Court of International Trade vacated the Department of Commerce's scope ruling and entered a judgement order. Consistent with the decision of the United States Court of Appeals for the Federal Circuit in Timken Co. v. United States, 893 F.2d 337 (Fed.Cir. 1990), the Department is notifying the public that this decision was “not in harmony” with the Department's original final scope ruling.

EFFECTIVE DATE: November 7, 2003.

FOR FURTHER INFORMATION CONTACT: David J. Goldberger at (202) 482-4136 or Rebecca Trainor at (202) 482-4007, Office of Antidumping and Countervailing Duty Enforcement, Import Administration, International Trade Administration, U.S. Department of Commerce, 14th Street and Constitution Avenue, N.W., Washington, D.C. 20230.

SUPPLEMENTARY INFORMATION:

Background

On February 19, 1999, the Department of Commerce (the Department) published notice of its amended final determination of less-than-fair-value (LTFV) investigation of certain preserved mushrooms from the People's Republic of China (PRC) and the antidumping duty order. See Notice of Amendment of Final Determination of Sales at Less Than Fair Value and Antidumping Duty Order: Certain Preserved Mushrooms from the People's Republic of China, 64 FR 8308 (February 19, 1999).

On January 6, 2000, producers/exporters, Mei Wei Food Industry Co, Ltd, Tak Fat Trading Co., Leung Mi International, Tak Yeun Corp., and U.S. importer Genex International Corp. (collectively, Tak Fat), requested that the Department determine that certain marinated or acidified mushrooms produced in the People's Republic of China (PRC) are outside the scope of the antidumping duty order on certain preserved mushrooms. See Request for Scope Determination: Certain Preserved Mushrooms from the People's Republic of China, January 6, 2000. The Department made a final ruling on this scope request on June 19, 2000, finding that the “marinated or acidified” mushrooms produced, exported or imported by Tak Fat are within the scope of the antidumping duty order on certain preserved mushrooms from the PRC based on their acetic acid content level.

Tak Fat appealed this ruling to the Court of International Trade (CIT). On October 17, 2003, the CIT issued its decision granting Tak Fat's request to vacate the scope ruling. See Tak Fat Trading Company, et al., v. United States, Slip Op. 03-134.

Timken Notice

In its decision in Timken Co. v. United States, 893 F.2d 337 (Fed. Cir. 1990) (Timken), the Court of Appeals for the Federal Circuit (CAFC) held that, pursuant to 19 USC 1516(e), the Department must publish notice of a decision of the CIT or the CAFC which is “not in harmony” with the Department's determination. Therefore, publication of this notice fulfills this obligation of the Department. In addition, this notice will serve to continue the suspension of liquidation. If this decision is not appealed, or if appealed, if it is upheld, the Department will amend its scope ruling.

Dated: November 3, 2003.
James Jochum,
Assistant Secretary for Import Administration.

[FR Doc. 03-28125 Filed 11-6-03; 8:45 am]

BILLING CODE 3510-DS-S